DEPARTMENT OF ENERGY

Federal Energy Regulatory Commission

Notice of FERC Staff Participation at New England Transmission Cost Allocation Stakeholder Workshop #4

March 11, 2003.

The Federal Energy Regulatory Commission hereby gives notice that on March 14, 2003, members of its staff will attend the New England Transmission Cost Allocation Stakeholder Workshop #4, concerning mechanisms for the allocation of transmission costs. The staff's attendance is part of the Commission's ongoing outreach efforts. The meeting will be held on March 14, 2003 at 10 a.m. at the Swissotel, 1 Avenue de Lafayette, Boston, MA 02111. This meeting is open to the public. Further information about the meeting and a copy of the registration form is available at http://www.iso-ne.com/seminars/schedule.html.

The meeting may discuss matters at issue in Docket Nos. ER02-2330, et al., EL00-62, et al., and ER03-210, et al.

For more information, contact David Kathan, Office of Markets, Tariffs and Rates, Federal Energy Regulatory Commission at (202) 502-6404 or david.kathan@ferc.gov.

Magalie R. Salas,
Secretary.

[FR Doc. 03-6015 Filed 3-14-03; 8:45 am]

BILLING CODE 6717-01-P